DEPARTMENT OF THE TREASURY

Office of Foreign Assets Control

Sanctions Action Pursuant to Executive Order 13224

AGENCY: Office of Foreign Assets Control, Treasury.

ACTION: Notice.

SUMMARY: The Department of the Treasury's Office of Foreign Assets Control (OFAC) is publishing the names of four individuals whose property and interests in property are blocked pursuant to Executive Order 13224 of September 23, 2001, “Blocking Property and Prohibiting Transactions With Persons Who Commit, Threaten To Commit, or Support Terrorism.”

DATES: OFAC's action described in this notice was effective on November 10, 2016.

FOR FURTHER INFORMATION CONTACT: Associate Director for Global Targeting, tel.: 202-622-2420, Assistant Director for Sanctions Compliance & Evaluation, tel.: 202-622-2490, Assistant Director for Licensing, tel.: 202-622-2480, Office of Foreign Assets Control, or Chief Counsel (Foreign Assets Control), tel.: 202-622-2410, Office of the General Counsel, Department of the Treasury (not toll free numbers).

SUPPLEMENTARY INFORMATION:

Electronic Availability

The SDN List and additional information concerning OFAC sanctions programs are available from OFAC's Web site (www.treas.gov/ofac).

Notice of OFAC Action

On November 10, 2016, OFAC blocked the property and interests in property of the following four individuals pursuant to E.O. 13224, “Blocking Property and Prohibiting Transactions With Persons Who Commit, Threaten To Commit, or Support Terrorism”:

Individuals

1. AL-MUHAYSINI, 'Abdallah Muhammad Bin-Sulayman (a.k.a. ALMUHAYSINI, Abdullah); DOB 30 Oct 1987; POB Al Qasim, Saudi Arabia; nationality Saudi Arabia; Passport K163255 (Saudi Arabia) issued 11 Jun 2011 expires 16 Apr 2016 (individual) [SDGT] (Linked To: AL-NUSRAH FRONT).

2. JASHARI, Abdul (a.k.a. AL-ALBANI, Abu Qatada; a.k.a. AL-ALBANI, Abu-Qatadah; a.k.a. JASHARI, Abdulj; a.k.a. JASHARI, Abdyl; a.k.a. “IRAKI, Commander”), Syria; DOB 25 Sep 1976; POB Skopje, Macedonia; nationality Macedonia, The Former Yugoslav Republic of (individual) [SDGT] (Linked To: AL-NUSRAH FRONT).

3. ZAYNIYAH, Jamal Husayn (a.k.a. AL-ANSARI, Abu-Malik; a.k.a. AL-SHAMI, Abu-Malik; a.k.a. AL-TALLI, Abu-Malik), Al-Qalamun, Syria; DOB 17 Aug 1972; alt. DOB 01 Jan 1972; POB Al-Tal, Syria; alt. POB Tell Mnin, Syria; nationality Syria; Passport 3987189 (individual) [SDGT] (Linked To: AL-NUSRAH FRONT).

4. AL-'ALLAK, Ashraf Ahmad Fari' (a.k.a. AL-ALLAL, Ashraf Ahmad Fari; a.k.a. AL-URDUNI, Abu Raghad; a.k.a. BASHQ, Abu Raghad; a.k.a. FARI', Ashraf Ahmad; a.k.a. “BASHIQ”), Dar'a, Syria; DOB 15 Dec 1978; POB Amman, Jordan; nationality Jordan (individual) [SDGT] (Linked To: AL-NUSRAH FRONT).

Dated: November 10, 2016.
John E. Smith,
Acting Director, Office of Foreign Assets Control.

[FR Doc. 2016-27562 Filed 11-16-16; 8:45 am]

BILLING CODE 4810-AL-P